DEPARTMENT OF LABOR

Mine Safety and Health Administration

30 CFR Part 42, 47, 56, 57, and 77

RIN: 1219-AA47

Hazard Communication (HazCom)

AGENCY: Mine Safety and Health Administration (MSHA), Labor.

ACTION: Notice of public hearing and extension of comment period.

SUMMARY: MSHA is announcing a public hearing regarding the Agency's interim final rule on Hazard Communication and extending the comment period. The hazard communication requirements were published in the Federal Register on October 3, 2000 (65 FR 59048). The hearing will be held under section 101 of the Federal Mine Safety and Health Act of 1977.

DATES: The hearing will be held on December 14, 2000. The hearing will last from 9:00 a.m. to 5:00 p.m., but will continue into the evening if necessary. The comment period is extended until December 19, 2000.

ADDRESSES: The hearing will be held at the following location: Department of Labor, Office of Administrative Law Judges Courtroom, 800 K Street N.W., Suite 400N, Washington, D.C.

Comments may be transmitted by electronic mail, fax, or mail. Comments by electronic mail must be clearly identified as such and sent to this e-mail address: comments@MSHA.gov. Comments by fax must be clearly identified as such and sent to: MSHA, Office of Standards, Regulations, and Variances, 703-235-5551. Mail comments should be clearly identified as such and sent to MSHA, Office of Standards, Regulations, and Variances, 4015 Wilson Boulevard, Room 631, Arlington, VA 22203-1984. Interested persons are encouraged to supplement written comments with computer files or disks; please contact the Agency with any questions about format.

FOR FURTHER INFORMATION CONTACT: David L. Meyer, Director; MSHA Office of Standards, Regulations, and Variances; phone 703-235-1910.

SUPPLEMENTARY INFORMATION: We request that you notify us of your intention to make an oral presentation prior to the hearing date, but it is not required that you do so. The hearing will be conducted in an informal manner by a panel of MSHA officials. Although formal rules of evidence or cross examination will not apply, the presiding official may exercise discretion to ensure the orderly progress of the hearing and may exclude irrelevant or unduly repetitious material and questions.

The hearing will begin with an opening statement from MSHA, followed by an opportunity for members of the public to make oral presentations. The hearing panel may ask questions of speakers. At the discretion of the presiding official, the time allocated to speakers for their presentations may be limited. In the interest of conducting a productive hearing, MSHA will schedule speakers in a manner that allows all points of view to be heard as effectively as possible.

A verbatim transcript of the proceeding will be prepared and made part of the rulemaking record. A copy of the hearing transcript will be made available for public review.

MSHA will accept additional written comments and other appropriate data for the record from any interested party, including those not presenting oral statements. Written comments and data submitted to MSHA will be included in the rulemaking record. To allow for the submission of post-hearing comments, the comment period is extended and the record will remain open until December 19, 2000.

Dated: December 7, 2000.
J. Davitt McAteer,
Assistant Secretary for Mine Safety and Health.

[FR Doc. 00-31543 Filed 12-7-00; 1:20 pm]

BILLING CODE 4510-43-P